DEPARTMENT OF TRANSPORTATION

Federal Aviation Administration

Proposed Revision to Operations Specifications (OpSpec) A010, Aeronautical Weather Data

AGENCY: Federal Aviation Administration, DOT.

ACTION: Notice of new requirement for Qualified Internet Communications Provider (QICP) for Internet communications of aviation weather and NOTAMs for Title 14 of the Code of Federal Regulation (14 CFR) part 121 and part 135 certificate holders under OpSpec A010 and request for comments.

SUMMARY: This notice announces a new requirement for 14 CFR part 121 and part 135 certificate holders that obtain approved weather data via the public Internet for use in flight operations. These carriers must use a Qualified Internet Communications Provider (QICP) for Internet communications of aviation weather and NOTAMs. A QICP is a person or organization that provides access to aviation weather and NOTAMs via the public Internet and has FAA-approved Internet communication practices for reliability, accessibility, and security (e.g., protection of data from unauthorized modifications). A current list of all QICPs can be found on the FAA public Web page.

All 14 CFR part 121 and part 135 air carriers that obtain aviation weather and NOTAMs via the public Internet will be required to amend their Operations Specifications to incorporate the use of QICPs. Operations Specification (OpSpec) A010 authorizes the carrier to use any eligible QICP on the FAA public Web page.

OpSpec A010, which amends FAA Order 8400.10 will read: “For Internet communications of aviation weather and NOTAMs used in flight operations, all part 121 and part 135 operators are required to use an approved Qualified Internet Communications Provider (QICP).

(1) The QICPs used by the operator must be listed in OpSpec A010.

(2) The QICP used must be obtained from the approved list provided by the FAA.

(3) For more detailed information with regard to QICPs, refer to the appropriate AC pertaining to Internet Communications of Aviation Weather and NOTAMs and Volume 3, Chapter 7, Section 5, of this Order.”

Accessing aviation weather and NOTAM information via the public Internet using an approved QICP enhances public safety as a result of the increased security, reliability, and accessibility of the weather and aviation-related documents that are relied upon by part 121 and part 135 certificate holders.

DATES: Comments must be received on or before October 17, 2002.

ADDRESSES: Send all comments on the proposed revision to: Federal Aviation Administration, Air Transportation Division (Attention: AFS-260), 800 Independence Avenue, SW., Washington, DC 20591, or electronically to connie.streeter@faa.gov.

FOR FURTHER INFORMATION CONTACT: Connie Streeter, AFS-260, at the address above, by e-mail at connie.streeter@faa.gov, or telephone at (202) 267-8166.

SUPPLEMENTARY INFORMATION:

Comments Invited

Interested persons are invited to comment on the proposed revision by submitting such written data, views, or arguments as they may desire. Please identify Operations Specification A010, Aeronautical Weather Data, and submit comments, either hard copy or electronic, to the appropriate address listed above. Comments may be inspected at the above address between 9 a.m. and 4 p.m. weekdays, except Federal holidays.

Issued in Washington, DC, on September 9, 2002.
Louis C. Cusimano,
Deputy Director, Flight Standards Service.

[FR Doc. 02-23617 Filed 9-16-02; 8:45 am]

BILLING CODE 4910-13-M